DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated National and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treas.gov/ofac).

Notice of OFAC Actions

On October 13, 2017, OFAC determined that the property and interests in property subject to U.S. jurisdiction of the following persons are blocked under the relevant sanctions authorities listed below.

Entities

1. FANAMOJ (a.k.a. FANA MOJ; a.k.a. FANA MOWJ; a.k.a. FANAMOJ COMPANY; a.k.a. FANAVARI MODJ KHAVAR; a.k.a. FANAVARI MOJ KHAVAR CO.; a.k.a. FANAVARI MOUDJ KHAVAR GROUP; a.k.a. FANAVARI MOWJ KHAVAR), No. 90, 15th St., North Kargar Avenue, Tehran 1439763111, Iran; No 1, Sartipi Ave, Semiari Ave, Shariati St, Tehran 19316-63381, Iran; No. 7, 15th St., North Amir Abad St., North Karegar St., Tehran, Iran; Web site www.fanamoj.com; Email Address info@fanamoj.com; Additional Sanctions Information—Subject to Secondary Sanctions; Registration ID 171433 (Iran) [NPWMD] [IFSR].

Designated pursuant to section 1(a)(iii) of Executive Order 13382 of June 28, 2005, “Blocking Property of Weapons of Mass Destruction Proliferators and Their Supporters” (“E.O. 13382”) for having provided, or attempted to provide, financial, material, technological or other support for, or goods or services in support of, Iran's ISLAMIC REVOLUTIONARY GUARD CORPS, a person whose property and interests in property are blocked pursuant to E.O. 13382.

2. ISLAMIC REVOLUTIONARY GUARD CORPS (a.k.a. AGIR; a.k.a. IRANIAN REVOLUTIONARY GUARD CORPS; a.k.a. IRG; a.k.a. IRGC; a.k.a. ISLAMIC REVOLUTIONARY CORPS; a.k.a. PASDARAN; a.k.a. PASDARAN-E ENGHELAB-E ISLAMI; a.k.a. PASDARAN-E INQILAB; a.k.a. REVOLUTIONARY GUARD; a.k.a. REVOLUTIONARY GUARDS; a.k.a. SEPAH; a.k.a. SEPAH PASDARAN; a.k.a. SEPAH-E PASDARAN-E ENQELAB-E ESLAMI; a.k.a. THE ARMY OF THE GUARDIANS OF THE ISLAMIC REVOLUTION; a.k.a. THE IRANIAN REVOLUTIONARY GUARDS), Tehran, Iran; Additional Sanctions Information—Subject to Secondary Sanctions [SDGT] [NPWMD] [IRGC] [IFSR] [IRAN-HR] [HRIT-IR].

Designated pursuant to section 1(d)(i) of Executive Order 13224 of September 23, 2001, “Blocking Property and Prohibiting Transactions With Persons Who Commit, Threaten to Commit, or Support Terrorism,” (“E.O. 13224”) for assisting in, sponsoring, or providing financial, material, techological support for, or financial or other services to or in support of, Iran's ISLAMIC REVOLUTIONARY GUARD CORPS-QODS FORCE, a person determined to be subject to E.O. 13224.

3. RASTAFANN ERTEBAT ENGINEERING COMPANY (a.k.a. RASSTAFANN CO; a.k.a. RASTAFAN; a.k.a. RASTAFANN), No. 1, Sartipi Street, Shahid Mirzapoor Avenue, North of Sadr Bridge, Shariati Avenue, Tehran 19316-63384, Iran; Additional Sanctions Information—Subject to Secondary Sanctions [NPWMD] [IFSR].

Designated pursuant to section 1(a)(iii) of E.O. 13382 for having provided, or attempted to provide, financial, material, technological or other support for, or goods or services in support of, Iran's NAVAL DEFENCE MISSILE INDUSTRY GROUP and the ISLAMIC REVOLUTIONARY GUARD CORPS, two persons whose property and interests in property are blocked pursuant to E.O. 13382.

4. SHAHID ALAMOLHODA INDUSTRIES (a.k.a. SHAHID ALAMOLHODA; a.k.a. SHAHID ALAMOLHODA INDUSTRY; a.k.a. “SAI”), 142, Shahid Reza Farshadi and Shahid Hasan-e streets, Lavizan, Iran; Additional Sanctions Information—Subject to Secondary Sanctions [NPWMD] [IFSR].

Designated pursuant to section 1(a)(iv) of Executive Order 13382 for being owned or controlled by Iran's NAVAL DEFENCE MISSILE INDUSTRY GROUP, a person whose property and interests in property are blocked pursuant to E.O. 13382.

5. WUHAN SANJIANG IMPORT AND EXPORT CO. LTD (a.k.a. WUHAN LONGHUA WEIYE INDUSTRY AND TRADE CO., LTD; a.k.a. WUHAN SANJIANG IMP. & EXP. CO. LTD.; a.k.a. “WSIEC”), Room 519, complex building Hubei Modern Five Metals and electromechanical Market, Wuhan, China; No. 5647, Dongxihu Ave, Dongxihu District, Wuhan, Hubei, China; Qiao mouth district space, building no. 101, Wuhan, Hubei 430040, China; Additional Sanctions Information—Subject to Secondary Sanctions; United Social Credit Code Certificate (USCCC) 91420112711981060J (China) [NPWMD] [IFSR].

Designated pursuant to section 1(a)(iii) of E.O. 13382 for having provided, or attempted to provide, financial, material, technological or other support for, or goods or services in support of, Iran's SHIRAZ ELECTRONICS INDUSTRIES, a person whose property and interests in property are blocked pursuant to E.O. 13382.

Dated: October 13, 2017.
John. E. Smith,
Director, Office of Foreign Assets Control.

[FR Doc. 2017-22631 Filed 10-17-17; 8:45 am]

BILLING CODE 4810-AL-P